DEPARTMENT OF TRANSPORTATION

Federal Aviation Administration

Notice of Approval of the Finding of No Significant Impact and Record of Decision for the Final Environmental Assessment (EA) for the Construction of a New Land-Based Airport in Akutan, AK

AGENCY: Federal Aviation Administration (FAA), Department of Transportation (DOT).

ACTION: Notice of approval of the Finding of No Significant Impact/Record of Decision.

SUMMARY: The Federal Aviation Administration is announcing the approval of the Finding of No Significant Impact/Record of Decision (FONSI/ROD) for the Final Environmental Assessment (EA) for the construction of a new land-based airport in Akutan, AK. The FONSI/ROD provides final agency determinations and approvals for the proposed development.

FOR FURTHER INFORMATION CONTACT: Patti Sullivan, Environmental Specialist, Federal Aviation Administration, Alaskan Region, Airports Division, 222 W. 7th Avenue #14, Anchorage, AK 99513-7504. Ms. Sullivan may be contacted during business hours at (907) 271-5454 (phone) and (907) 271-2851 (facsimile).

SUPPLEMENTARY INFORMATION: The FONSI/ROD is for the approval of actions for the construction of an airport, including a runway, a runway safety area, connecting taxiway, an apron, and a snow removal equipment and maintenance facility; an airport access road; two hovercraft landing pads; a hovercraft storage and maintenance facility; and acquisition of a hovercraft. The FONSI/ROD provides the final agency determinations and approvals for Federal actions by the FAA related to the selection of alternatives to meet the purpose and need for the action. The FONSI/ROD also includes required mitigation measures and conditions of approval.

The FONSI/ROD indicates that the selected actions are consistent with existing environmental policies and objectives set forth in the National Environmental Policy Act (NEPA) of 1969, as amended, as well as other Federal and State statutes, and that the actions will not significantly affect the quality of the environment.

The FAA's decision is based upon information contained in the Final EA, issued in December 2007, and on all other applicable documents available to the agency and considered by it, which constitutes the administrative record.

The FAA's determinations are discussed in the FONSI/ROD, which was approved on December 26, 2007.

FONSI/ROD Availability

The FONSI/ROD may be viewed at the following Web site: http://www.faa.gov/airports_airtraffic/airports/regional_guidance/alaskan/.

Issued in Anchorage, Alaska on January 11, 2007.
Byron K. Huffman,
Manager, Airports Division, Alaskan Region.

[FR Doc. 08-232 Filed 1-22-08; 8:45 am]

BILLING CODE 4910-13-M